Memorandum of September 7, 2021

Delegation of Authorities Under Sections 552(c)(2) and 506(a)(1) of the Foreign Assistance Act of 1961

Memorandum for the Secretary of State

By the authority vested in me as President by the Constitution and the laws of the United States of America, including section 301 of title 3, United States Code, I hereby delegate to the Secretary of State the authority under section 552(c)(2) of the Foreign Assistance Act of 1961 to direct the drawdown of up to $25 million in commodities and services from the inventory and resources of any agency of the United States Government to provide immediate assistance to the Lebanese Armed Forces. I also hereby delegate to the Secretary of State the authority under section 506(a)(1) of the Foreign Assistance Act of 1961 to direct the drawdown of up to $22 million in defense articles and services from the Department of Defense to provide immediate assistance to the Lebanese Armed Forces. The Secretary of State is authorized to make the appropriate congressional notification and determination required under each section to direct such a drawdown.

You are authorized and directed to publish this memorandum in the Federal Register.

THE WHITE HOUSE,

Washington, September 7, 2021

[FR Doc. 2021-19932

Filed 9-13-21; 8:45 am]

Billing code 4710-10-P